FEDERAL COMMUNICATIONS COMMISSION

47 CFR Parts 2, 22, 24, 74, 78, and 90

[WT Docket No. 02-55; FCC 04-253]

The 800 MHz Public Safety Interference Proceeding; Request for Comments on Ex Parte Presentations and Extension of Deadlines

AGENCY: Federal Communications Commission.

ACTION: Request for comments.

SUMMARY: Subsequent to release of the 800 MHz Report and Order in the Public Safety Interference Proceeding on August 6, 2004, Nextel Communications, Inc. and others filed ex parte presentations in the rulemaking proceeding. Nextel sought clarification and/or modification of certain aspects of the Commission's final rules released on August 6, 2004, and published in the Rules and Regulations section in this issue. Nextel also filed a supplementary ex parte submission providing additional detail on the issues it raised in its September 16, 2004, ex parte presentation. Other parties have filed ex parte presentations in response to Nextel's ex parte filings. The Commission requests comments limited to these filings.

DATES: Submit comments on or before December 2, 2004. The Commission is not requesting reply comments.

ADDRESSES: All filings must be addressed to the Commission's Secretary, Marlene H. Dortch, Office of the Secretary, Federal Communications Commission, 445 12th Street, SW., Suite TW-A325, Washington, DC 20554. One (1) courtesy copy must be delivered to Roberto Mussenden, Esq. at Federal Communications Commission, Wireless Telecommunications Bureau, Public Safety and Critical Infrastructure Division, 445 12th Street, SW., Suite 5-C140, Washington, DC 20554, or via e-mail, roberto.mussenden@fcc.gov, and one (1) copy must be sent to Best Copy and Printing, Inc., Portals II, 445 12th Street, SW., Room CY-B402, Washington, DC 20554, telephone 1-800-378-3160, or via Web, http://www.bcpiweb.com.

FOR FURTHER INFORMATION CONTACT: Roberto Mussenden, Esq., Public Safety and Critical Infrastructure Division, Wireless Telecommunications Bureau at (202) 418-0680.

SUPPLEMENTARY INFORMATION: This is a summary of a Public Notice released on October 22, 2004 by the Federal Communications Commission requesting comments on certain ex parte submissions filed subsequent to release of said Report and Order and extending certain deadlines set forth in the 800 MHz Report and Order.

1. In order to develop a full and complete record and to further the effective implementation of the 800 MHz band reconfiguration process, the Commission seeks expedited comment on the issues raised in certain ex parte presentations submitted after release of the 800 MHz Report and Order on August 6, 2004. Said issues include the mechanics of the relocation process, valuation of the spectrum, and interference issues. The Commission is not accepting comment at this time on filings that address the freeze on 900 MHz applications. The Commission is waiving the reply comment cycle required pursuant to 47 CFR 1.415(c) for good cause, because expedited consideration of these issues is important to avoid uncertainty in the implementation of the 800 MHz band reconfiguration process and to avoid further delaying resolution of the problems of unacceptable interference affecting public safety licensees in this band. In addition, in order to avoid uncertainty for Nextel and other 800 MHz licensees, we believe it is appropriate to provide certain parties additional time to comply with certain benchmarks set forth in the 800 MHz Report and Order, which is published in the Rules and Regulations section of this issue. Additional information regarding this deadline extension is published in the Rules and Regulations section of this issue.

3. This matter shall be treated as a “permit-but-disclose” proceeding in accordance with the Commission's ex parte rules, 47 CFR 1.1200, 1.1206. Persons making oral ex parte presentations are reminded that memoranda summarizing the presentations must contain summaries of the substance of the presentations and not merely a listing of the subjects discussed. More than a one or two sentence description of the views and arguments presented generally is required. See 47 CFR 1.1206(b). Other rules pertaining to oral and written ex parte presentations in permit-but-disclose proceedings are set forth in section 1.1206(b) of the Commission's rules, 47 CFR 1.1206(b).

4. Interested parties may view the referenced ex parte filings on the Commission's Electronic Comment Filing System (ECFS) using the following steps: (i) Access ECFS at http://www.fcc.gov/e-file/ecfs.html; (ii) in the introductory screen, click on “Search for Filed Comments'; (iii) in the “Proceeding” box, enter “02-55”; (iv) check the box marked “Search by Date Range; (v) in the “Date received/adopted” block, in the “From” column, enter 07/08/2004; (vi) in the “To” column enter the date this notice is published in the Federal Register in the format MM/DD/YYYY.

5. Commenters may file comments using the Commission's Electronic Comment Filing System (ECFS) or by filing paper copies. See Electronic Filing of Documents in Rulemaking Proceedings, 63 FR 24121 (1998). Commenters filing through the ECFS can be sent as an electronic file via the Internet to http://www.fcc.gov/e-file/ecfs.html. Generally, commenters must submit only one copy of an electronic submission. If multiple docket or rulemaking numbers appear in the caption of this proceeding, however, commenters must transmit one electronic copy of the comments to each docket or rulemaking number referenced in the caption. In completing the transmittal screen, commenters should include their full name, U.S. Postal Service mailing address, and the applicable docket or rulemaking number. Commenters may also submit an electronic comment by Internet e-mail. To get filing instructions for e-mail comments, commenters should send an e-mail to ecfs@fcc.gov and should include the following words in the body of the message, “get form <your e-mail address>.” Commenters will receive a sample form and directions in reply.

6. Parties that choose to file by paper must file an original and four copies of each filing. If more than one docket or rulemaking number appears in the caption of this proceeding, commenters must submit two additional copies for each additional docket or rulemaking number.

7. Commenters may send filings by hand or messenger delivery, by commercial overnight courier, or by first-class or overnight U.S. Postal Service mail (although the Commission continues to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. Commenters must bind all hand deliveries together with rubber bands or fasteners and must dispose of any envelopes before entering the building. This facility is the only location where the Commission's Secretary will accept hand-delivered or messenger-delivered paper filings. Commenters must send commercial overnight mail (other than U.S. Postal Service Express Mail and Priority Mail) to 9300 East Hampton Drive, Capitol Heights, MD 20743. Commenters should address U.S. Postal Service first-class mail, Express Mail, and Priority Mail to 445 12th Street, SW., Washington, DC 20554.

8. Filings and comments are also available for public inspection and copying during regular business hours at the FCC Reference Information Center, Portals II, 445 12th Street, SW., Room CY-A257, Washington, DC 20554. They may also be purchased from the Commission's duplicating contractor, Best Copy and Printing, Inc., Portals II, 445 12th Street, SW., Room CY-B402, Washington, DC 20554, telephone 1-800-378-3160, or via Web, http://www.bcpiweb.com.

Federal Communications Commission.
D'wana R. Terry,
Chief of Staff, Wireless Telecommunications Bureau, Federal Communications Commission.

[FR Doc. 04-25261 Filed 11-19-04; 8:45 am]

BILLING CODE 6712-01-P